DEPARTMENT OF COMMERCE

National Oceanic and Atmospheric Administration

[I.D. 062900A]

Northeast Region Sea Scallop Exemption Requirements

AGENCY: National Marine Fisheries Service (NMFS), National Oceanic and Atmospheric Administration (NOAA), Commerce.

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before September 5, 2000.

ADDRESSES: Direct all written comments to Linda Engelmeier, Departmental Forms Clearance Officer, Department of Commerce, Room 6086, 14th and Constitution Avenue NW, Washington DC 20230 (or via Internet at lengelme@doc.gov).

FOR FURTHER INFORMATION CONTACT: Requests for additional information or copies of the information collection instrument(s) and instructions should be directed to David M. Gouveia, NMFS, 1 Blackburn Drive, Gloucester, MA 01930 (978-281-9280).

SUPPLEMENTARY INFORMATION:

I. Abstract

The National Marine Fisheries Service (NMFS) has established a Sea Scallop Exemption Program (SEP) in the northeast region of the U.S. The SEP allows sea scallop fishermen to fish within certain areas closed to the northeast multispecies fishery. NMFS requires reporting by participants to allow it to enforce regulations and manage the fishery. The Office of Management and Budget (OMB) gave emergency Paperwork Reduction Act clearance to these reporting requirements on June 13, 2000. This Notice solicits public comment on a proposed request to OMB for regular clearance for these requirements. It also solicits comment on a proposal to expand the nature of the requirements. The approval obtained from OMB was limited to specifically identified exemption areas. NMFS proposes to request clearance for these requirements to apply to any other exemption areas that may be named.

The requirements currently approved are: (1) vessels not already equipment with a Vessel Monitoring System (VMS) must install one to allow NMFS to monitor the location of the vessel; (2) vessels installing a new VMS must submit verification of that installation; (3) vessels intending to participate in the SEP must notify NMFS of that intent no later than 15 days prior to the scheduled opening of an exemption area; (4) vessels participating must notify NMFS at least 5 days prior to departing on a trip to an exemption area in order to allow possible assignment of observers; (5) vessels on a trip to an exemption area must provide daily reporting via their VMS unit on their catch and related information; and (6) the VMS unit on vessels on a fishing trip to an exemption area must provide automatic position information twice each hour.

II. Method of Collection

The verification requirement of VMS installation is made by submission of a paper document. Notification requirements and all VMS reporting is done electronically via the VMS unit.

III. Data

OMB Number: 0648-0416.

Form Number: None.

Type of Review: Regular submission.

Affected Public: Business and other for-profit organizations, individuals.

Estimated Number of Respondents: 267.

Estimated Time Per Response: 1 hour for an installation of a VMS unit, 5 minutes for a verification of installation of the VMS unit, 2 minutes for a notification of intent to participate or to leave on a fishing trip, and 30 seconds per day for an automated VMS position reports.

Estimated Total Annual Burden Hours: 4,673.

Estimated Total Annual Cost to Public: $195,000.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and /or included in the request for OMB approval of this information collection; they also will become a matter of public record.

Dated: June 27, 2000.
Madeleine Clayton,
Management Analyst, Office of Chief Information Officer.

[FR Doc. 00-16941 Filed 7-3-00; 8:45 am]

BILLING CODE 3510-22-F